DEPARTMENT OF THE INTERIOR

National Park Service

[N6813; NPS-WASO-NAGPRA-NPS0041645; PPWOCRADN0-PCU00RP14.R50000]

Notice of Inventory Completion: Tennessee Department of Environment and Conservation, Division of Archaeology, Nashville, TN; East Tennessee State University, Johnson City, TN; and University of Tennessee, Department of Anthropology, Knoxville, TN

AGENCY: National Park Service, Interior.

ACTION: Notice.

SUMMARY: In accordance with the Native American Graves Protection and Repatriation Act (NAGPRA), the Tennessee Department of Environment and Conservation, Division of Archaeology (TDEC-DOA), East Tennessee State University, Department of Anthropology (ETSU), and University of Tennessee, Knoxville, Department of Anthropology (UTK) has completed an inventory of human remains and associated funerary objects and has determined that there is a cultural affiliation between the human remains and associated funerary objects and Indian Tribes or Native Hawaiian organizations in this notice.

DATES: Repatriation of the human remains and associated funerary objects in this notice may occur on or after January 21, 2026.

ADDRESSES: Send written requests for repatriation of the human remains and associated funerary objects in this notice to Phillip R. Hodge, Tennessee Department of Environment and Conservation, Division of Archaeology (TDEC-DOA), 1216 Foster Avenue, Cole Building #3, Nashville, TN 37243, email Phil.Hodge@tn.gov; Dr. Lindsey Cochran, East Tennessee State University (ETSU), 223 Rogers-Stout Hall, P.O. Box 70644, Johnson City, TN 37614-1702, email cochranle@etsu.edu; and Dr. Ellen Lofaro, University of Tennessee (UTK), Office of Repatriation, 5723 Middlebrook Pike, Knoxville, TN 37996, email nagpra@utk.edu.

SUPPLEMENTARY INFORMATION: This notice is published as part of the National Park Service's administrative responsibilities under NAGPRA. The determinations in this notice are the sole responsibility of the TDEC-DOA, ETSU, and UTK and additional information on the determinations in this notice, including the results of consultation, can be found in its inventory or related records. The National Park Service is not responsible for the determinations in this notice.

Abstract of Information Available

Site 40SL34, Sullivan County, TN

Human remains representing, at least, 14 individuals have been identified. The 10 associated funerary objects are two lithic bifaces, one notched freshwater bivalve shell, five lots of artifacts including fauna, one lot of shell beads, and one lot of unsorted materials. These Ancestors and cultural items were recovered from Eastman Rock Shelter, a Late Archaic to Mississippian site, between July 1979 to October 1980 by S.D. Dean. This project was done in collaboration with Charles Faulkner (UTK) and TDOT. It is unknown when the Ancestors and cultural items were transferred to UTK, but based on past practices, this transfer was likely instigated by Faulkner. The Ancestors and some cultural items were then transferred to ETSU by staff prior to 2018. Later, these Ancestors and some cultural items were transferred to TDEC-DOA for repatriation. There is no known exposure to hazardous substances or treatments.

Cultural Affiliation

Based on the information available and the results of consultation, cultural affiliation is reasonably identified by the geographical location or acquisition history of the human remains and associated funerary objects described in this notice.

Determinations

The TDEC-DOA, ETSU, and UTK have determined that:

• The human remains described in this notice represent the physical remains of 14 individuals of Native American ancestry.

• The 10 associated funerary objects described in this notice are reasonably believed to have been placed intentionally with or near individual human remains at the time of death or later as part of the death rite or ceremony.

• There is a connection between the human remains and associated funerary objects described in this notice and the Cherokee Nation; Eastern Band of Cherokee Indians; The Muscogee (Creek) Nation; Thlopthlocco Tribal Town; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 21, 2026. If competing requests for repatriation are received, the TDEC-DOA, ETSU, and UTK must determine the most appropriate requestor prior to repatriation. Requests for joint repatriation of the human remains and associated funerary objects are considered a single request and not competing requests. TDEC-DOA, ETSU, and UTK are responsible for sending a copy of this notice to the Indian Tribes and Native Hawaiian organizations identified in this notice.

Authority: Native American Graves Protection and Repatriation Act, 25 U.S.C. 3003, and the implementing regulations, 43 CFR 10.10.

Dated: December 11, 2025.
Melanie O'Brien,
Manager, National NAGPRA Program.

[FR Doc. 2025-23543 Filed 12-19-25; 8:45 am]

BILLING CODE 4312-52-P